DEPARTMENT OF THE INTERIOR

National Park Service

Notice of Intent To Issue a Temporary of Concession Lodging, Campground, Food and Beverage Sevices, Merchandise, Gas Services, Boat Tours and Employee Housing at Crater Lake National Park

SUMMARY: Pursuant to the National Park Service Concessions Management Improvement Act of 1998, notice is hereby given that the National Park Service intends to issue a temporary concession contract authorizing continued operation of lodging, campground, food and beverage services, merchandise, gas services, boat Tours and Employee Housing within Crater Lake National Park. The temporary concession contract will be for a term of one year. This short-term concession contract is necessary to avoid interruption of visitor services while negotiations for the purchase of possessory interest and personal property is conducted between the previous concessioner and the newly selected concessioner. This short-term contract will be for a one-year operating period beginning April 1, 2002 and ending March 30, 2003. This notice is in pursuant to 36 CFR part 51, section 51.24(a).

SUPPLEMENTARY INFORMATION: The previous long-term concession contract at Crater Lake National Park expired on October 31, 2001. Under the solicitation and selection process pursuant to 36 CFR part 51 a new concessioner has been selected to provide commercial services under a new long-term concession contract. Negotiations for the purchasing of possessory interest and personal property have not resolved between the previous concessioner and the newly selected concessioner. Before the new long-term concession contract can be awarded, negotiations for the purchasing of possessory interest and personal property must be resolved. In order to avoid the interruption of commercial services to the public a short-term concession contract will allow for this action to take place to avoid a long-term delay in service to the public.

Information about this notice can be sought from: National Park Service, Chief, Concession Program Management Office, Pacific West Region, Attn: Mr. Tony Sisto, 1111 Jackson Street, Suite 700, Oakland, California 94607, or call (510) 817-1369.

Dated: March 8, 2002.
John J. Reynolds,
Regional Director, Pacific West Region.

[FR Doc. 02-8582 Filed 4-9-02; 8:45 am]

BILLING CODE 4310-70-P